DEPARTMENT OF AGRICULTURE

Rural Utilities Service

Announcement of Grant Awards Under the RUS Distance Learning and Telemedicine Grant Program

AGENCY: Rural Utilities Service, USDA.

ACTION: Notice of applications selected to receive grant awards.

SUMMARY: The Rural Utilities Service (RUS) hereby announces the recipients that were selected to receive grant awards during fiscal year (FY) 2002 under the Distance Learning and Telemedicine Grant Program.

FOR FURTHER INFORMATION CONTACT: Marilyn J. Morgan, Chief, Distance Learning and Telemedicine Branch, U.S. Department of Agriculture, Rural Utilities Service, STOP 1550, Room 2845, South Building, 1400 Independence Avenue, SW., Washington, DC 20250-1701. Telephone: (202) 720-0413. FAX: (202) 720-1051.

SUPPLEMENTARY INFORMATION: Pursuant to 7 CFR 1703.101, RUS is hereby publishing the names of the 71 organizations that have been awarded $27,139,772 in grants under 7 CFR part 1703, subpart D, Distance Learning and Telemedicine Grant Program. The recipients are as follows:

USDA, Rural Utilities Service, Telecommunications Program FY 2002 Distance Learning and Telemedicine Grant Awards
State | Grantee | Amount
AK | Alaska Native Tribal Health Consortium | $500,000
AK | The Health TV Channel, Inc. | 500,000
AL | Choctaw County Board of Education | 233,262
AL | Conecuh County School District | 500,000
AR | Barton-Lexa School District | 500,000
AZ | Arizona Western College | 391,455
CA | Southern Cal. Tribal Chairmen's Assn. Inc. | 479,235
CA | Yosemite Community College District | 500,000
CO | Grand River Hospital District | 500,000
FL | All Children's Hospital | 481,410
GA | South Georgia Governmental Services Authority | 499,100
ID | North Idaho Rural Health Consortium | 500,000
KS | Hays Medical Center, Inc. | 195,000
KS | Barton County Community College | 69,550
KY | Saint Joseph Healthcare | 90,300
LA | Primary Care Providers for a Healthy Feliciana | 67,360
ME | The Aroostook Medical Center | 162,543
ME | Visiting Nurse Service of Southern Maine and Seacoast New Hampshire | 214,956
ME | St. Joseph Healthcare Inc. | 494,750
ME | HealthReach Network d/b/a HealthReach Homecare & Hospice | 500,000
MI | Borgess Health Alliance, Inc. | 368,183
MN | First Care Medical Service | 200,000
MN | Mille Lacs Health System | 207,720
MO | Education Plus Network | 464,492
MS | Mississippi Blood Services | 193,930
MS | Jones County School District | 500,000
MS | Brookhaven School District | 500,000
MT | Deaconess Billings Clinic Foundation | 209,300
MT | Montana State University-Northern | 398,785
MT | Eastern Montana Education Telecommunications | 430,071
NE | Rural Health Partners, Inc. d.b.a. Heartland Health Alliance | 164,640
NE | North Platte Nebraska Hospital Corporation d.b.a Great Plains Regional Medical Center | 484,000
NM | University of New Mexico-Gallup | 432,526
NY | NYS Office of Children & Family Services | 190,279
NY | New York State Office of Children and Family Services | 335,000
NY | Schuyler-Chemung-Tioga Board of Cooperative Educational Services | 400,998
NY | Copenhagen CSD (Lead Agency) | 476,650
NY | Moses-Ludington Hospital | 499,800
OH | Martins Ferry City School District (BUCKEYE Project) | 213,530
OH | Ohio University Southern Campus | 482,518
OK | Canadian Valley Technology Center | 309,778
OK | Western Oklahoma State College | 415,696
OK | Lane School | 497,000
OK | Wapanucka Public School | 498,000
OK | Howe Public Schools District I-67 | 486,928
OR | Rogue Community College | 286,486
OR | Samaritan North Lincoln Hospital | 317,687
PA | Greene County Industrial Development Authority | 456,647
PA | Brownsville Area School District | 500,000
PA | Wayne Memorial Hospital, Inc. | 500,000
PA | Home Health Services Foundation | 500,000
TN | Claiborne County Department of Education | 427,972
TN | The University of Tennessee Health Science Center | 460,990
TN | The University of Tennessee College of Pharmacy | 490,012
TN | Sequatchie County School District | 500,000
TX | Palo Alto College | 257,760
TX | San Antonio College | 312,315
TX | Taft Independent School District | 450,595
TX | Texas A&M International University | 497,000
TX | Cypress Valley Alliance | 500,000
TX | Odem-Edroy ISD | 500,000
TX | Education Service Center, Region 2 | 499,473
UT | Central Utah Educational Services | 322,322
VA | Southside Virginia Community College | 171,578
VA | Crossroads Rural Entrepreneurial Institute, Inc. | 470,700
VA | University of Virginia | 73,000
VT | Visiting Nurse Alliance of VT and NH, Inc. | 400,000
WA | Wellpinit School District | 475,000
WA | Educational Service District 105 | 470,600
WI | Space Explorers Education Initiatives, Inc. | 350,000
WV | Glenville State College | 210,890
(Continuation of Announcement of Grant Awards Under the RUS DLT Grant Program).

Dated: December 13, 2002.
Curtis M. Anderson,
Deputy Administrator, Acting for the Administrator, Rural Utilities Service.

[FR Doc. 02-31941 Filed 12-18-02; 8:45 am]

BILLING CODE 3410-15-P